DEPARTMENT OF ENERGY

Federal Energy Regulatory Commission

[Docket Nos. CP15-554-001; PF15-6-000]

Atlantic Coast Pipeline, LLC; Notice of Amendment to Application

Take notice that on March 14, 2016, Atlantic Coast Pipeline, LLC (ACP), 120 Tredgar Street, Richmond, Virginia 23219, filed an amendment to its application under section 7(c) of the Natural Gas Act and Part 157 of the Commission's regulations requesting authorization to install, construct, own, operate and maintain certain natural gas pipeline facilities for its Atlantic Coast Pipeline project.

ACP's pending application seeks authorization of: (i) Approximately 564.1 miles of various diameter pipeline; (ii) three greenfield compressor stations totaling 117,545 horsepower (HP) of compression; and (iii) various appurtenant and auxiliary facilities designed to transport up to approximately 1.5 million dekatherms per day (MMDth/d) of natural gas. In the amendment, ACP proposes a major route change near the Monongahela and George Washington National Forests that would affect landowners in Randolph and Pocahontas Counties, West Virginia, and Highland, Bath and Augustana Counties, Virginia. Other, smaller route changes proposed in the amendment would affect landowners in Randolph and Pocahontas Counties, West Virginia, Bath, Nelson and Dinwiddie Counties, Virginia, and Cumberland and Johnston Counties, North Carolina. The amended facilities would increase the total length of the pipeline to 599.7 miles and compressor station HP from 40,715 HP to 53,515 HP at the proposed Buckingham County, Virginia compressor station, all as more fully described in the application.

The filings may also be viewed on the Web at http://www.ferc.gov using the “eLibrary” link. Enter the docket number excluding the last three digits in the docket number field to access the document. For assistance, please contact FERC at FERCOnlineSupport@ferc.gov or toll free at (866) 208-3676, or TTY, (202) 502-8659.

Any questions regarding ACP's or DTI's projects should be directed to Angela Woolard, Gas Transmission Certificates, Dominion Transmission, Inc., 701 East Cary Street, Richmond, Virginia 23219; telephone: 866-319-3382.

Within 90 days after the Commission issues a Notice of Amendment to Application for the ACP, the Commission staff will issue a Notice of Schedule for Environmental Review that will indicate the anticipated date for the Commission's staff issuance of the final EIS analyzing ACP's amended proposal, as well as Dominion Transmission, Inc.'s and Atlantic Coast Pipeline, LLC and Piedmont Natural Gas Company, Inc.'s associated proposals pending in Docket Nos. CP15-555-000 and CP15-556-000, respectively. The issuance of a Notice of Schedule for Environmental Review will also serve to notify federal and state agencies of the timing for the completion of all necessary reviews, and the subsequent need to complete all federal authorizations within 90 days of the date of issuance of the Commission staff's final EIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order. At a future date, the Commission will issue a Supplemental Notice of Intent to Prepare an Environmental Impact Statement that opens a supplemental scoping period and announces procedures to solicit environmental comments on the amended application. This Notice will be mailed to all parties on the Commission's environmental mailing list for this docket.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Comment Date: 5:00 p.m. Eastern Time on April 12, 2016.

Dated: March 22, 2016.
Nathaniel J. Davis, Sr.,
Deputy Secretary.

[FR Doc. 2016-07239 Filed 3-30-16; 8:45 am]

BILLING CODE 6717-01-P